DEPARTMENT OF DEFENSE

Office of the Secretary

Notice of Availability of the Final Environmental Impact Statement for the Enhanced Integrated Air and Missile Defense System on Guam

AGENCY: Missile Defense Agency (MDA), Department of Defense (DoD).

ACTION: Notice of availability (NOA).

SUMMARY: The MDA, as the lead agency, has prepared a Final Environmental Impact Statement (EIS) for the Enhanced Integrated Air and Missile Defense (EIAMD) System on Guam. The United States (U.S.) Army (USA), U.S. Navy (USN), U.S. Air Force (USAF), and the Federal Aviation Administration (FAA) are cooperating agencies in the development of the Final EIS. The Final EIS includes an analysis of the potential environmental impacts that may result from the Proposed Action to construct, deploy, and operate and maintain the EIAMD system to defend Guam against advanced missile threats. The Final EIS was prepared in compliance with the National Environmental Policy Act and in accordance with MDA, USA, USN, USAF, and FAA's implementing procedures. The procedures followed in the development of the Final EIS also supports compliance with the National Historic Preservation Act of 1966 and its implementing regulations.

DATES: The MDA and USA will not issue a final decision on the proposed action until 30 days after the date that the U.S. Environmental Protection Agency (USEPA)-issued NOA is published in the Federal Register.

FOR FURTHER INFORMATION CONTACT: Mr. Mark Wright, MDA Public Affairs, at 571-231-8212, or by email: mda.info@mda.mil. For more information, including a downloadable copy of the Final EIS, visit the MDA website: https://www.mda.mil/system/eiamd.

SUPPLEMENTARY INFORMATION: A Notice of Intent to prepare an EIS was published in the Federal Register on May 5, 2023, which provided information about the public scoping period, how to submit public scoping comments, and the close of the public scoping period on June 27, 2023. A Notice of Scoping Comment Period Extension was published in the Federal Register on June 9, 2023, announcing the extension of the comment period to August 11, 2023, in response to ongoing Typhoon Mawar-related recovery efforts. The notice also stated that open house public scoping meetings would be rescheduled. A second Notice of Scoping Comment Period Extension was published in the Federal Register on July 21, 2023, announcing another extension of the comment period to August 18, 2023, and the rescheduled open house public scoping meetings dates. MDA published a Draft EIS NOA (89 FR 85523) in the Federal Register on October 28, 2024, and USEPA published a Draft EIS NOA (89 FR 85200) in the Federal Register on October 25, 2024, which provided notice that the Draft EIS (EISX-007-20-MDA-1725955966) was available for public review and comment from October 25, 2024, to January 8, 2025.

The MDA held two Draft EIS public meetings on November 14, 2024, and November 15, 2024, to inform the public and stakeholders about the Proposed Action and the findings of the EIS, answer questions, and solicit comments on the Draft EIS and the project's potential to affect historic properties.

The public was able to submit comments via an electronic comment form on the project website, via email, in person at the public meetings (written or oral via a court reporter), or via U.S. postal mail. The MDA received 72 comments during the Draft EIS public review and comment period. Comments on the Draft EIS were considered, incorporated, and responded to as appropriate into the Final EIS. Comments resulted in the addition of clarifying text and updated information.

Within the context of homeland defense, Guam is a key strategic location for sustaining and maintaining U.S. capabilities, deterring adversaries, responding to crises, and maintaining a free and open Indo-Pacific. As a U.S. territory, an attack on Guam would be considered a direct attack on the U.S. and would be met with an appropriate response. Currently U.S. forces are capable of defending Guam against today's regional ballistic missile threats. However, regional missile threats to Guam continue to increase and advance technologically. U.S. Indo-Pacific Command identified a requirement for a 360-degree EIAMD system on Guam as soon as possible to address the rapid evolution of adversary missile threats.

In the Final EIS, MDA, in coordination with cooperating agencies, evaluated the potential environmental impacts associated with the Proposed Action as well as a No Action Alternative. The Proposed Action is to construct, deploy, and operate and maintain a comprehensive, persistent, 360-degree EIAMD system to defend the people, infrastructure, and territory of Guam against the rapidly evolving threats of advanced cruise, ballistic, and hypersonic missile attacks from regional adversaries. The proposed system includes a combination of components from MDA, USA, and USN that would be integrated for air and missile defense. These components include missile defense radars, sensors, missile launchers and missile interceptors, and command and control systems.

The MDA and USA need to strategically locate and integrate the various system components at multiple sites around Guam. The MDA and USA identified 16 proposed sites to operate and maintain the EIAMD system on DoD properties on Guam. A limited number of the proposed sites would require real estate actions on non-DoD properties for access, or where safety zone arcs encroach on non-DoD properties. If the decision is made to proceed with the Proposed Action, site preparation and construction would span approximately 10 years beginning in 2025. The EIAMD operational capability would be phased in as each site completes construction, testing, and final system checks of the installed components. Following final construction, testing, and final system-wide checks, the EIAMD system would become fully operational.

The MDA and cooperating agencies analyzed the potential direct and indirect impacts the Proposed Action may have on airspace management, health and safety, cultural resources, terrestrial biological resources, socioeconomics, protection of children, land use and recreation, transportation, visual quality, utilities, air quality, greenhouse gases, noise, water, and geology and soils. Mitigation measures that could avoid, minimize, or mitigate potential environmental impacts of the Proposed Action are also proposed in the Final EIS.

The MDA invites all interested members of the public, as well as Federal and territorial agencies, to view the Final EIS. The Final EIS is available on the MDA public website at www.mda.mil/system/eiamd and at the following public libraries: (1) University of Guam Robert F. Kennedy Memorial Library, UOG Station, Mangilao, Guam 96913; (2) Nieves M. Flores Memorial Library, 254 Martyr St., Agana, Guam 96910.

The Missile Defense Agency's National Environmental Policy Act (NEPA) Implementing Procedures, Para. 4.(c) (August 8, 2014) (79 FR 46410) allow for the publication of notices in the Federal Register for draft and final NEPA documents. These procedures outline how the Missile Defense Agency complies with the National Environmental Policy Act (42 U.S.C. 4321 et seq.).

Dated: July 22, 2025.
Aaron T. Siegel,
Alternate OSD Federal Register Liaison Officer, Department of Defense.

[FR Doc. 2025-14020 Filed 7-24-25; 8:45 am]

BILLING CODE 6001-FR-P